DEPARTMENT OF THE INTERIOR

Fish and Wildlife Service

50 CFR Part 17

[Docket No. FWS-R8-ES-2018-0105; 4500030113]

RIN 1018-BD85

Endangered and Threatened Wildlife and Plants; Threatened Species Status for the West Coast Distinct Population Segment of Fisher

AGENCY: Fish and Wildlife Service, Interior.

ACTION: Proposed rule; reopening of the comment period.

SUMMARY: We, the U.S. Fish and Wildlife Service (Service), are reopening the comment period on our October 7, 2014, proposed rule to list the West Coast distinct population segment (DPS) of fisher (Pekania pennanti) as a threatened species. We are reopening the comment period for 30 days to give all interested parties further opportunity to comment on the proposed rule. Comments previously submitted need not be resubmitted as they are already incorporated into the public record and will be fully considered in the final rule.

DATES: The comment period for the proposed rule that published on October 7, 2014, at 79 FR 60419 is reopened. Comments submitted electronically using the Federal eRulemaking Portal (see ADDRESSES, below) must be submitted by 11:59 p.m. Eastern Time March 4, 2019.

ADDRESSES: Availability of documents: The proposed rule is available on http://www.regulations.gov in the original docket at Docket No. FWS-R8-ES-2014-0041 and on our website at https://www.fws.gov/Yreka. Comments and materials we received during the previous comment periods, as well as supporting documentation we used in preparing the proposed rule, are also available for public inspection in that docket at http://www.regulations.gov. In addition, all comments, materials, and documentation that we considered regarding the proposed rule are available for public inspection, by appointment, during normal business hours, at the Yreka Fish and Wildlife Office, U.S. Fish and Wildlife Service, 1829 South Oregon Street, Yreka, CA 96097; telephone 530-842-5763; facsimile 530-842-4517. Persons who use a telecommunications device for the deaf (TDD) may call the Federal Relay Service (FRS) at 1-800-877-8339.

Comment submission: You may submit written comments on the proposed rule by one of the following methods:

(1) Electronically: Go to the Federal eRulemaking Portal: http://www.regulations.gov. In the Search box, enter FWS-R8-ES-2018-0105, which is the docket number for this new stage of the rulemaking action. Then, click on the Search button. On the resulting page, in the Search panel on the left side of the screen, under the Document Type heading, check the Proposed Rule box to locate this document. You may submit a comment by clicking on “Comment Now!”

(2) By hard copy: Submit by U.S. mail or hand delivery to: Public Comments Processing, Attn: Docket No. FWS-R8-ES-2018-0105; U.S. Fish and Wildlife Service, MS: BPHC, 5275 Leesburg Pike, Falls Church, VA 22041-3803.

We request that you send comments only by the methods described above. See Information Requested, below, for more information on submitting comments on the proposed rule.

FOR FURTHER INFORMATION CONTACT: Jenny Ericson, Field Supervisor, U.S. Fish and Wildlife Service, Yreka Fish and Wildlife Office, 1829 South Oregon Street, Yreka, CA 96097; telephone 530-842-5763; facsimile 530-842-4517. Persons who use TDD may call the FRS at 800-877-8339.

SUPPLEMENTARY INFORMATION:

Background

On October 7, 2014, we published in the Federal Register a proposed rule (79 FR 60419) to list the West Coast DPS of fisher as a threatened species under the Endangered Species Act of 1973, as amended (Act; 16 U.S.C. 1531 et seq.). On April 18, 2016, we published a document in the Federal Register withdrawing the proposed rule to list the West Coast DPS of fisher (81 FR 22710), concluding that the stressors acting upon the DPS were not of sufficient imminence, intensity, or magnitude to indicate that they were singly or cumulatively resulting in significant impacts at either the population or rangewide scales.

On October 19, 2016, the Center for Biological Diversity, Environmental Protection Information Center, Klamath-Siskiyou Wildlands Center, and Sierra Forest Legacy filed a complaint for declaratory and injunctive relief, alleging that our determination on the West Coast DPS of fisher violated the Act. By Order Re: Summary Judgment issued on September 21, 2018, the District Court for the Northern District of California vacated the listing withdrawal and remanded the Service's final determination for reconsideration. The Court's amended order directs the Service to prepare a new determination by September 21, 2019.

Additional information on Federal actions concerning the West Coast DPS of fisher prior to October 7, 2014, is outlined in the proposed listing rule (79 FR 60419).

Information Requested

We will accept written comments and information during this reopened comment period on our proposed listing for the West Coast DPS of fisher that was published in the Federal Register on October 7, 2014 (79 FR 60419). We will consider information and recommendations from all interested parties. We intend that any final action resulting from the proposal be as accurate as possible and based on the best available scientific and commercial data.

We are particularly interested in new information and comments regarding:

(1) Information related to anticoagulant rodenticides and other toxicants, including law enforcement information and trend data.

(2) Information regarding population trend studies or data for the West Coast DPS of fisher, including information regarding areas that have been surveyed compared to areas that have not been surveyed, as well as all positive and negative survey results to help us assess distribution and population trends.

(3) Information regarding the threat of wildfire, including studies or information pertaining to current and future trends in wildfire frequency and severity, as well as information pertaining to the immediate response of fishers to post-fire landscapes in the West Coast DPS of fisher.

(4) Information regarding any threats related to small population size and isolation relevant to the West Coast DPS of fisher (e.g., low reproductive capacity, inbreeding depression, demographic and environmental stochasticity).

(5) Information regarding any effects of ongoing and widespread tree mortality in the Sierra Nevada range on the West Coast DPS of fisher.

(6) Information regarding any conservation efforts designed to benefit the West Coast DPS of fisher that have been planned or implemented since the October 7, 2014, proposed rule.

As indicated under SUMMARY, above, if you previously submitted comments or information on the October 7, 2014, proposed rule, please do not resubmit them. We have incorporated previously submitted comments into the public record, and we will fully consider them in the preparation of our final determination. Our final determination concerning the proposed listing will take into consideration all written comments and any additional information we receive, including any new scientific and commercial information available since April 18, 2016 (81 FR 22710).

You may submit your comments and materials concerning the proposed rule by one of the methods listed in ADDRESSES. We request that you send comments only by the methods described in ADDRESSES.

If you submit information via http://www.regulations.gov, your entire submission—including any personal identifying information—will be posted on the website. If your submission is made via a hardcopy that includes personal identifying information, you may request at the top of your document that we withhold this information from public review. However, we cannot guarantee that we will be able to do so. We will post all hardcopy submissions on http://www.regulations.gov.

Authority

The authority for this action is the Endangered Species Act of 1973, as amended (16 U.S.C. 1531 et seq.).

Dated: December 7, 2018.
Margaret E. Everson,
Principal Deputy Director, U.S. Fish and Wildlife Service, Exercising the Authority of the Director, U.S. Fish and Wildlife Service.

[FR Doc. 2018-28408 Filed 1-30-19; 8:45 am]

BILLING CODE 4333-15-P